DEPARTMENT OF HOMELAND SECURITY

Coast Guard

33 CFR Part 100

[Docket Number USCG-2019-0014]

RIN 1625-AA08

Special Local Regulations; Sector Ohio Valley Annual and Recurring Special Local Regulations, Update

AGENCY: Coast Guard, DHS.

ACTION: Notice of proposed rulemaking.

SUMMARY: The Coast Guard proposes amending and updating its special local regulations for recurring marine parades, regattas, and other events that take place in the Coast Guard Sector Ohio Valley area of responsibility (AOR). Through this notice the current list of recurring special local regulations is updated with revisions, additions, and removals of events that no longer take place in the Sector Ohio Valley AOR. When these special local regulations are enforced, certain restrictions are placed on marine traffic in specified areas. We invite your comments on this proposed rulemaking.

DATES: Comments and related material must be received by the Coast Guard on or before April 12, 2019.

ADDRESSES: You may submit comments identified by docket number USCG-2019-0014 using the Federal eRulemaking Portal at http://www.regulations.gov. See the “Public Participation and Request for Comments” portion of the SUPPLEMENTARY INFORMATION section for further instructions on submitting comments.

FOR FURTHER INFORMATION CONTACT: If you have questions on this proposed rule, call or email Petty Officer Riley Jackson, Sector Ohio Valley, U.S. Coast Guard; telephone (502) 779-5347, email SECOHV-WWM@uscg.mil.

SUPPLEMENTARY INFORMATION:

I. Table of Abbreviations

CFR Code of Federal Regulations

COTP Captain of the Port, Sector Ohio Valley

DHS Department of Homeland Security

E.O. Executive Order

FR Federal Register

NPRM Notice of proposed rulemaking

Pub. L. Public Law

§ Section

U.S.C. United States Code

II. Background, Purpose, and Legal Basis

The Captain of the Port Sector Ohio Valley (COTP) proposes to update the current list of recurring special local regulations found in Table 1 of 33 CFR 100.801.

This rule updates the list of annually recurring special local regulations under 33 CFR 100.801, Table 1 for annual special local regulations in the COTP zone. The Coast Guard will address all comments through response via the rulemaking process, including additional revisions to this regulatory section. Additionally, these recurring events are provided to the public through local means and planned by the local communities.

The current list of annual and recurring special local regulations occurring in Sector Ohio Valley's AOR is published under 33 CFR part 100.801, Table 1. The most recent list was created May 14, 2018 via 83 FR 22194.

The Coast Guard's authority for establishing a special local regulation is contained at 46 U.S.C. 70041(a). The Coast Guard is amending and updating the special local regulations under 33 CFR part 100.801, Table 1 to include the most up to date list of recurring special local regulations for events held on or around navigable waters within Sector Ohio Valley's AOR. These events include marine parades, boat races, swim events, and other marine related events. The current list under 33 CFR 100.801, Table 1 requires amendment to provide new information on existing special local regulations, add new special local regulations expected to recur annually or biannually, and remove special local regulations that are no longer required. Issuing individual regulations for each new special local regulation, amendment, or removal of an existing special local regulation creates unnecessary administrative costs and burdens. This single proposed rulemaking will considerably reduce administrative overhead and provide the public with notice through publication in the Federal Register of recurring special local regulations.

The Coast Guard is issuing this notice of proposed rulemaking (NPRM) with a 15-day prior notice and opportunity to comment pursuant to section (b)(3) of the Administrative Procedure Act (APA) (5 U.S.C. 553). This provision authorizes an agency to publish a rule in less than 30 days before its effective date for “good cause found and published with the rule.” Under 5 U.S.C. 553(b)(3)(B), the Coast Guard finds that good cause exists for publishing this NPRM with a 15-day comment period because it is impractical to provide a 30-day comment period. These proposed regulated areas are necessary to ensure the safety of vessels and persons during the marine events. It is impracticable to publish an NPRM with a 30-day comment period because some of these updates must be established as early as the end of April 2019. A 15-day comment period would allow the Coast Guard to provide for public notice and comment, but also update the regulated areas soon enough that the length of the notice and comment period does not compromise public safety. The Coast Guard is proposing this rulemaking under authority in 46 U.S.C. 70034 (previously 33 U.S.C. 1231).

III. Discussion of Proposed Rule

Part 100 of 33 CFR contains regulations to provide effective control over regattas and marine parades conducted on U.S. navigable waters in order to ensure the safety of life in the regatta or marine parade area. Section 100.801 provides the regulations applicable to events taking place in the Eighth Coast Guard District and also provides a table listing each event and special local regulation. This section requires amendment from time to time to properly reflect the recurring special local regulations. This proposed rule updates Section 100.801, Table 1 for Sector Ohio Valley.

This proposed rule adds one new recurring special local regulation, removes two special local regulations, and amends the dates and regulated areas for ten recurring special local regulations already listed.

This proposed rule would add one new recurring special local regulation in Table 1 of Section 100.801 for Sector Ohio Valley, as follows:

Date | Sponsor/name | Sector Ohio Valley location | Regulated area
2 days—One weekend in August | Powerboat Nationals—Parkersburg Regatta/Parkersburg | Parkersburg, WV | Ohio River, Mile 183.5-185.5 (West Virginia).

This proposed rule would remove the following two special local regulations from Table 1 of Section 100.801 because these events are no longer held:

Date | Sponsor/name | Sector Ohio Valley location | Regulated area
One Saturday in June or July | Paducah Summer Festival/Cross River Swim | Paducah, KY | Ohio River, Mile 934-936 (Kentucky).
First or second weekend of July | Prizer Point Marina/4th of July Celebration | Cadiz, KY | Cumberland River, Mile 54.0-55.09 (Kentucky).

This proposed rule would revise ten existing special local regulations in Table 1 of Section 100.801, as follows:

Line | Date | Event/sponsor | Ohio Valley location | Regulated area | Revision (date/area)
17 | 3 days—First week of August | EQT Pittsburgh Three Rivers Regatta | Pittsburgh, PA | Allegheny River mile 0.0-1.0, Ohio River mile 0.0-0.8, Monongahela River mile 0.5 (Pennsylvania) | area.
26 | 1 day—First or second weekend of September | SUP3RIVERS The Southside Outside | Pittsburgh, PA | Monongahela River mile 0.0-3.09 Allegheny River mile 0.0-0.6 (Pennsylvania) | date/area.
32 | 2 days—First weekend of October | Three Rivers Rowing Association/Head of the Ohio Regatta | Pittsburgh, PA | Allegheny River mile 0.0-5.0 (Pennsylvania) | area.
43 | 3 days—One of the last three weekends in September or one of the first two weekends in October | Hadi Shrine/Owensboro Air Show | Owensboro, KY | Ohio River, Mile 754.0-760.0 (Kentucky) | date.
44 | 1 day—Last weekend in July or first weekend in August | HealthyTriState.org/St. Marys Tri State Kayathalon | Huntington, WV | Ohio River, Mile 305.1-308.3 (West Virginia) | area.
47 | 1 day—One weekend in September | Parkersburg Paddle Fest | Parkersburg, WV | Ohio River, Mile 184.3-188 (West Virginia) | date.
60 | 3 days—Second or third weekend of August | Kittanning Riverbration boat races | Kittanning, PA | Allegheny River mile 42.0-46.0 (Pennsylvania) | date/area.
61 | 2 days—Second or third weekend in April | Thunder Over Louisville | Louisville, KY | Ohio River, Mile 597.0-607.0 (Kentucky) | date/area.
62 | 3 days—One weekend in August or one of the first two weekends in September | Evansville HydroFest | Evansville, IN | Ohio River, Mile 790.5-794.0 (Indiana) | date.
65 | 1 day—One weekend in August | YMCA River Swim | Charleston, WV | Kanawha River, Mile 58.3 to 61.8 (West Virginia) | area.

The effect of this proposed rule would be to restrict general navigation during these events. Vessels intending to transit the designated waterway through the special local regulations will only be allowed to transit the area when the COTP Ohio Valley, or designated representative, has deemed it safe to do so or at the completion of the event.

IV. Regulatory Analyses

We developed this proposed rule after considering numerous statutes and executive orders (E.O.s) related to rulemaking. Below we summarize our analyses based on a number of these statutes and E.O.s, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance it is exempt from the requirements of Executive Order 13771.

The Coast Guard expects the economic impact of this proposed rule to be minimal, therefore a full regulatory evaluation is unnecessary. This proposed rule establishes special local regulations limiting access to certain areas under 33 CFR 100 within Sector Ohio Valley's AOR. The effect of this proposed rulemaking will not be significant because these special local regulations are limited in scope and duration. Additionally, the public is given advance notification through local forms of notice, the Federal Register, and/or Notices of Enforcement and, thus, will be able to plan operations around the special local regulations accordingly. Broadcast Notices to Mariners and Local Notices to Mariners will also inform the community of these special local regulations. Vessel traffic may request permission from the COTP or a designated representative to enter the restricted area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for reasons stated in section IV.A. above, this proposed rule would not have a significant economic impact on any owner or operator because they are limited in scope and will be in effect for short periods of time. Before the enforcement period, the Coast Guard COTP will issue maritime advisories widely available to waterway users. Deviation from the special local regulations established through this proposed rulemaking may be requested from the appropriate COTP and requests will be considered on a case-by-case basis.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule will not call for a new collection of information under the Paperwork Reduction Act of 1995 (44 U.S.C. 3501-3520.).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. Normally such actions are categorically excluded from further review under paragraph L61 of Appendix A, Table 1 of DHS Instruction Manual 023-01-001-01, Rev. 01. of the Instruction because it involves establishment of special local regulations related to marine event permits for marine parades, regattas, and other marine events. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to https://www.regulations.gov and will include any personal information you have provided. For more about privacy and the docket, visit https://www.regulations.gov/privacyNotice.

Documents mentioned in this NPRM as being available in the docket, and all public comments, will be in our online docket at http://www.regulations.gov and can be viewed by following that website's instructions. Additionally, if you go to the online docket and sign up for email alerts, you will be notified when comments are posted or a final rule is published.

List of Subjects in 33 CFR Part 100

Marine safety, Navigation (water), Reporting and recordkeeping requirements, and Waterways.

For the reasons discussed in the preamble, the U.S. Coast Guard proposes to amend 33 CFR part 100 as follows:

PART 100—SAFETY OF LIFE ON NAVIGABLE WATERWAYS

1. The authority citation for part 100 continues to read as follows:

Authority: 33 U.S.C. 1233.

2. In § 100.801, Revise Table 1 to read as follows:

§ 100.801 Table 1 Annual Marine Events in Sector Ohio Valley's AOR.

Date | Event/sponsor | Ohio Valley location | Regulated area
1. 3 days—Second or third weekend in March | Oak Ridge Rowing Association/Cardinal Invitational | Oak Ridge, TN | Clinch River, Mile 48.5-52.0 (Tennessee).
2. 1 day—Third weekend in March | Vanderbilt Rowing/Vanderbilt Invite | Nashville, TN | Cumberland River, Mile 188.0-192.7 (Tennessee).
3. 2 days—Fourth weekend in March | Oak Ridge Rowing Association/Atomic City Turn and Burn | Oak Ridge, TN | Clinch River, Mile 48.5-52.0 (Tennessee).
4. 1 day—One weekend in April | Lindamood Cup | Marietta, OH | Muskingum River, Mile 0.5-1.5 (Ohio).
5. 3 days—Third weekend in April | Oak Ridge Rowing Association/SIRA Regatta | Oak Ridge, TN | Clinch River, Mile 48.5-52.0 (Tennessee).
6. 2 days—Third Friday and Saturday in April | Thunder Over Louisville | Louisville, KY | Ohio River, Mile 597.0-604.0 (Kentucky).
7. 1 day—During the last week of April or first week of May | Great Steamboat Race | Louisville, KY | Ohio River, Mile 595.0-605.3 (Kentucky).
8. 3 days—Fourth weekend in April | Oak Ridge Rowing Association/Dogwood Junior Regatta | Oak Ridge, TN | Clinch River, Mile 48.5-52.0 (Tennessee).
9. 3 days—Second weekend in May | Vanderbilt Rowing/ACRA Henley | Nashville, TN | Cumberland River, Mile 188.0-194.0 (Tennessee).
10. 3 days—Second weekend in May | Oak Ridge Rowing Association/Big 12 Championships | Oak Ridge, TN | Clinch River, Mile 48.5-52.0 (Tennessee).
11. 3 days—Third weekend in May | Oak Ridge Rowing Association/Dogwood Masters | Oak Ridge, TN | Clinch River, Mile 48.5-52.0 (Tennessee).
12. 1 day—Third weekend in May | World Triathlon Corporation/IRONMAN 70.3 | Chattanooga, TN | Tennessee River, Mile 462.7-467.5 (Tennessee).
13. 1 day—During the last weekend in May or on Memorial Day | Mayor's Hike, Bike and Paddle | Louisville, KY | Ohio River, Mile 601.0-604.5 (Kentucky).
14. 2 days-last weekend in May or first weekend in June | Visit Knoxville/Racing on the Tennessee | Knoxville, TN | Tennessee River, Mile 647.0-648.0 (Tennessee).
15. 3 days—First weekend in June | Outdoor Chattanooga/Chattanooga Swim Festival | Chattanooga, TN | Tennessee River, Mile 454.0-468.0 (Tennessee).
16. 2 days—First weekend of June | Thunder on the Bay/KDBA | Pisgah Bay, KY | Tennessee River, Mile 30.0 (Kentucky).
17. 1 day—First weekend in June | Visit Knoxville/Knoxville Powerboat Classic | Knoxville, TN | Tennessee River, Mile 646.4-649.0 (Tennessee).
18. 1 day— One weekend in June | Tri-Louisville | Louisville, KY | Ohio River, Mile 600.5-604.0 (Kentucky).
19. 2 days—One weekend in June | New Martinsville Vintage Regatta | New Martinsville,WV | Ohio River Mile 127.5-128.5 (West Virginia).
20. 3 days—One of the last three weekends in June | Lawrenceburg Regatta/Whiskey City Regatta | Lawrenceburg, IN | Ohio River, Mile 491.0-497.0 (Indiana).
21. 3 days—One of the last three weekends in June | Hadi Shrine/Evansville Shriners Festival | Evansville, IN | Ohio River, Mile 790.0-796.0 (Indiana).
22. 3 days—Third weekend in June | TM Thunder LLC/Thunder on the Cumberland | Nashville, TN | Cumberland River, Mile 189.6-192.3 (Tennessee).
23. 1 day—Third or fourth weekend in June | Greater Morgantown Convention and Visitors Bureau/Mountaineer Triathlon | Morgantown, WV | Monongahela River, Mile 101.0-102.0 (West Virginia).
24. 1 day—Fourth weekend in June | Team Magic/Chattanooga Waterfront Triathlon | Chattanooga, TN | Tennessee River, Mile 462.7-466.0 (Tennessee).
25. 3 days— The last weekend in June or one of the first two weekends in July | Madison Regatta | Madison, IN | Ohio River, Mile 554.0-561.0 (Indiana).
26. 1 day—During the first week of July | Evansville Freedom Celebration/4th of July Freedom Celebration | Evansville, IN | Ohio River, Mile 790.0-797.0 (Indiana).
27. First weekend in July | Eddyville Creek Marina/Thunder Over Eddy Bay | Eddyville, KY | Cumberland River, Mile 46.0-47.0 (Kentucky).
28. 2 days—One of the first two weekends in July | Thunder on the Bay/KDBA | Pisgah Bay, KY | Tennessee River, Mile 30.0 (Kentucky).
29. 1 day—Second weekend in July | Bradley Dean/Renaissance Man Triathlon | Florence, AL | Tennessee River, Mile 254.0-258.0 (Alabama).
30. 1 day—Third or fourth Sunday of July | Tucson Racing/Cincinnati Triathlon | Cincinnati, OH | Ohio River, Mile 468.3-471.2 (Ohio).
31. 2 days—One of the last three weekends in July | Dare to Care/KFC Mayor's Cup Paddle Sports Races/Voyageur Canoe World Championships | Louisville, KY | Ohio River, Mile 600.0-605.0 (Kentucky).
32. 2 days—Last two weeks in July or first three weeks of August | Friends of the Riverfront Inc./Pittsburgh Triathlon and Adventure Races | Pittsburgh, PA | Allegheny River, Mile 0.0-1.5 (Pennsylvania).
33. 1 day—Fourth weekend in July | Team Magic/Music City Triathlon | Nashville, TN | Cumberland River, Mile 189.7-192.3 (Tennessee).
34. 2 days—One weekend in July | Huntington Classic Regatta | Huntington, WV | Ohio River, Mile 307.3-309.3 (West Virginia).
35. 2 days—One weekend in July | Marietta Riverfront Roar Regatta | Marietta, OH | Ohio River, Mile 171.6-172.6 (Ohio).
36. 1 day—Last weekend in July or first weekend in August | HealthyTriState.org/St. Marys Tri State Kayathalon | Huntington, WV | Ohio River, Mile 305.1-308.3 (West Virginia).
37. 1 day—first Sunday in August | Above the Fold Events/Riverbluff Triathlon | Ashland City, TN | Cumberland River, Mile 157.0-159.5 (Tennessee).
38. 3 days—First week of August | EQT Pittsburgh Three Rivers Regatta | Pittsburgh, PA | Allegheny River mile 0.0-1.0, Ohio River mile 0.0-0.8, Monongahela River mile 0.5 (Pennsylvania).
39. 2 days—First weekend of August | Thunder on the Bay/KDBA | Pisgah Bay, KY | Tennessee River, Mile 30.0 (Kentucky).
40. 1 day—First or second weekend in August | Riverbluff Triathlon | Ashland City, TN | Cumberland River, Mile 157.0-159.0 (Tennessee).
41. 1 day—One of the first two weekends in August | Green Umbrella/Ohio River Paddlefest | Cincinnati, OH | Ohio River, Mile 458.5-476.4 (Ohio and Kentucky).
42. 2 days—Third full weekend (Saturday and Sunday) in August | Ohio County Tourism/Rising Sun Boat Races | Rising Sun, IN | Ohio River, Mile 504.0-508.0 (Indiana and Kentucky).
43. 3 days—Second or Third weekend in August | Kittanning Riverbration Boat Races | Kittanning, PA | Allegheny River mile 42.0-46.0 (Pennsylvania).
44. 3 days— One of the last two weekends in August | Thunder on the Green | Livermore, KY | Green River, Mile 69.0-72.5 (Kentucky).
45. 1 day—Fourth weekend in August | Team Rocket Tri-Club/Rocketman Triathlon | Huntsville, AL | Tennessee River, Mile 332.2-335.5 (Alabama).
46. 1 day—Last weekend in August | Tennessee Clean Water Network/Downtown Dragon Boat Races | Knoxville, TN | Tennessee River, Mile 646.3-648.7 (Tennessee).
47. 3 days—One weekend in August | Pro Water Cross Championships | Charleston, WV | Kanawha River, Mile 56.7-57.6 (West Virginia).
48. 2 days—One weekend in August | POWERBOAT NATIONALS—Ravenswood Regatta | Ravenswood, WV | Ohio River, Mile 220.5-221.5 (West Virginia).
49. 2 days—One weekend in August | Powerboat Nationals-Parkersburg Regatta/Parkersburg Homecoming | Parkersburg, WV | Ohio River Mile 183.5-285.5 (West Virginia).
50. 1 day—One weekend in August | YMCA River Swim | Charleston, WV | Kanawha River, Mile 58.3-61.8 (West Virginia).
51. 3 days—One weekend in August | Grand Prix of Louisville | Louisville, KY | Ohio River, Mile 601.0-605.0 (Kentucky).
52. 3 days—One weekend in August | Evansville HydroFest | Evansville, IN | Ohio River, Mile 790.5-794.0 (Indiana).
53. 1 day— First or second weekend of September | SUP3Rivers The Southside Outside | Pittsburgh, PA | Monongahela River mile 0.0-3.09 Allegheny River mile 0.0-0.6 (Pennsylvania).
54. 1 day—First weekend in September or on Labor Day | Mayor's Hike, Bike and Paddle | Louisville, KY | Ohio River, Mile 601.0-610.0 (Kentucky).
55. 2 days—Sunday before Labor Day and Labor Day | Cincinnati Bell, WEBN, and Proctor and Gamble/Riverfest | Cincinnati, OH | Ohio River, Mile 463.0-477.0 (Kentucky and Ohio) and Licking River Mile 0.0-3.0 (Kentucky).
56. 2 days—Labor Day weekend | Wheeling Vintage Race Boat Association Ohio/Wheeling Vintage Regatta | Wheeling, WV | Ohio River, Mile 90.4-91.5 (West Virginia).
57. 2 days— One of the first three weekends in September | Louisville Dragon Boat Festival | Louisville, KY | Ohio River, Mile 602.0-604.5 (Kentucky).
58. 1 day—One of the first three weekends in September | Cumberland River Compact/Cumberland River Dragon Boat Festival | Nashville, TN | Cumberland River, Mile 189.7-192.1 (Tennessee).
59. 2 days—One of the first three weekends in September | State Dock/Cumberland Poker Run | Jamestown, KY | Lake Cumberland (Kentucky).
60. 3 days— One of the first three weekends in September | Fleur de Lis Regatta | Louisville, KY | Ohio River, Mile 600.0-605.0 (Kentucky).
61. 1 day—Second weekend in September | City of Clarksville/Clarksville Riverfest Cardboard Boat Regatta | Clarksville, TN | Cumberland River, Mile 125.0-126.0 (Tennessee).
62. 1 Day—One Sunday in September | Ohio River Sternwheel Festival Committee Sternwheel race reenactment | Marietta, OH | Ohio River, Mile 170.5-172.5 (Ohio).
63. 1 Day—One weekend in September | Parkesburg Paddle Fest | Parkersburg, WV | Ohio River, Mile 184.3-188 (West Virginia).
64. 2 days—One of the last three weekends in September | Madison Vintage Thunder | Madison, IN | Ohio River, Mile 556.5-559.5 (Indiana).
65. 1 day—Third Sunday in September | Team Rocket Tri Club/Swim Hobbs Island | Huntsville, AL | Tennessee River, Mile 332.3-338.0 (Alabama).
66. 1 day—Fourth or fifth weekend in September | Knoxville Open Water Swimmers/Bridges to Bluffs | Knoxville, TN | Tennessee River, Mile 641.0-648.0 (Tennessee).
67. 1 day—Fourth or fifth Sunday in September | Green Umbrella/Great Ohio River Swim | Cincinnati, OH | Ohio River, Mile 468.8-471.2 (Ohio and Kentucky).
68. 1 day—One of the last two weekends in September | Ohio River Open Water Swim | Prospect, KY | Ohio River, Mile 587.0-591.0 (Kentucky).
69. 2 days—One of the last three weekends in September or the first weekend in October | Captain Quarters Regatta | Louisville, KY | Ohio River, Mile 594.0-598.0 (Kentucky).
70. 3 days—One of the last three weekends in September or one of the first two weekends in October | Owensboro Air Show | Owensboro, KY | Ohio River, Mile 754.0-760.0 (Kentucky).
71. 1 day—Last weekend in September | World Triathlon Corporation/IRONMAN Chattanooga | Chattanooga, TN | Tennessee River, Mile 462.7-467.5 (Tennessee).
72. 3 Days-Last weekend of September and/or first weekend in October | New Martinsville Records and Regatta Challenge Committee | New Martinsville, WV | Ohio River, Mile 128-129 (West Virginia).
73. 2 days—First weekend of October | Three Rivers Rowing Association/Head of the Ohio Regatta | Pittsburgh, PA | Allegheny River mile 0.0-5.0 (Pennsylvania).
74. 1 day—First or second weekend in October | Lookout Rowing Club/Chattanooga Head Race | Chattanooga, TN | Tennessee River, Mile 463.0-468.0 (Tennessee).
75. 3 days—First or Second weekend in October | Vanderbilt Rowing/Music City Head Race | Nashville, TN | Cumberland River, Mile 189.5-196.0 (Tennessee).
76. 2 days— One of the first three weekends in October | Norton Healthcare/Ironman Triathlon | Louisville, KY | Ohio River, Mile 600.5-605.5 (Kentucky).
77. 3 days—First weekend in November | Atlanta Rowing Club/Head of the Hooch Rowing Regatta | Chattanooga, TN | Tennessee River, Mile 463.0-468.0 (Tennessee).
78. 1 day—One weekend in November or December | Charleston Lighted Boat Parade | Charleston, WV | Kanawha River, Mile 54.3-60.3 (West Virginia).

Dated: March 21, 2019.
M.B. Zamperini,
Captain, U.S. Coast Guard, Captain of the Port, Sector Ohio Valley.

[FR Doc. 2019-05901 Filed 3-27-19; 8:45 am]

BILLING CODE 9110-04-P